DEPARTMENT OF THE INTERIOR

National Park Service

General Management Plan for San Juan Island National Historical Park, San Juan County, WA; Notice of Intent To Prepare an Environmental Impact Statement

Summary: In accordance with § 102(2)(C) of the National Environmental Policy Act (42 U.S.C. 4321 et. seq.), the National Park Service is undertaking a conservation planning and environmental impact analysis process for a new General Management Plan for San Juan Island National Historical Park. The purpose of the scoping process is to elicit early public comment regarding the full spectrum of public issues and concerns, including a suitable range of alternatives, appropriate boundaries, and the nature and extent of potential environmental impacts and appropriate mitigation strategies which should be addressed in preparing the draft Environmental Impact Statement (EIS).

Background: A general management plan (GMP) sets forth the basic management philosophy for a unit of the National Park System and provides the strategies for addressing issues and achieving identified management objectives for that unit. In the forthcoming EIS/GMP effort and its integral public review process, the National Park Service (NPS) will formulate a range of alternatives to address distinct management strategies for the park, including resource protection and visitor use. The EIS will identify and evaluate potential environmental impacts. The GMP will guide the management of natural and cultural resources and visitor use of those resources, serving as blueprint for park managers over the next 10-15 years. Development concept plans for selected facilities may be included with the GMP.

Scoping and Comment Process: Scoping activities involving a wide range of park stakeholders is of critical importance for early identification of issues and concerns which should be addressed in the forthcoming EIS/GMP. Representatives of Federal, State, and local agencies, American Indian tribes, private organizations and individuals from the general public who may be interested in or affected by the proposed GMP are encouraged to participate in the scoping process by responding with written comments, or by providing any relevant information.

At this time, major issues anticipated to be addressed in the San Juan Island National Historical Park EIS/GMP include: (1) Substantial growth pressures on cultural and natural resources of the park; (2) future protection of water quality and quantity; (3) natural erosion of portions of the shoreline; (4) proliferation of exotic plant and animal species; and (4) lack of adequate administrative and visitor facilities and services in terms of location and scale. Comments on these or other concerns deemed relevant to the conservation planning and environmental impact analysis process, as well as suggested management alternatives suitable for addressing these factors, are encouraged and are particularly helpful as this early phase in the overall EIS/GMP process.

Several public scoping meetings are planned for spring 2003. Confirmed dates, times, and locations will be timely announced via local and regional press releases, in a park scoping newsletter, and on the park website http://www.nps.gov/sajh/gmp_sajh.html.

All interested individuals, organizations, and agencies wishing to provide comments, suggestions, or relevant information (or those wishing to be included in the project mailing list) should contact the Superintendent at San Juan Island National Historical Park, P.O. Box 429, Friday Harbor, Washington 98250, or via telephone at (360) 378-2240. All written comments must be postmarked not later than June 1, 2003.

If individuals submitting comments request that their name or/and address be withheld from public disclosure, it will be honored to the extent allowable by law. Such requests must be stated prominently in the beginning of the comments. There also may be circumstances wherein the NPS will withhold a respondent's identity as allowable by law. As always, NPS will make available to public inspection all submissions from organizations or businesses and from persons identifying themselves as representatives or officials of organizations and businesses; and, anonymous comments may not be considered.

Decision Process: The draft EIS/GMP is expected to be available for public review by summer 2004, with the final version of the document completed by winter 2005. As a delegated EIS, the official responsible for approval of the EIS/GMP is the Regional Director, Pacific West Region, National Park Service. Subsequently, the official responsible for implementation of the approved GMP will be the Superintendent, San Juan Island National Historical Park.

Dated: December 18, 2002.
Jonathan B. Jarvis,
Regional Director, Pacific West Region.

[FR Doc. 03-2717 Filed 2-4-03; 8:45 am]

BILLING CODE 4310-70-P